DEPARTMENT OF COMMERCE

International Trade Administration

[C-570-127]

Certain Non-Refillable Steel Cylinders From the People's Republic of China: Rescission of Countervailing Duty Administrative Review; 2024

AGENCY: Enforcement and Compliance, International Trade Administration, Department of Commerce.

SUMMARY: The U.S. Department of Commerce (Commerce) is rescinding the administrative review of the countervailing duty (CVD) order on certain non-refillable steel cylinders (non-refillable cylinders) from the People's Republic China (China), covering the period of review (POR) January 1, 2024, though December 31, 2024, because, as explained below, there are no reviewable suspended entries for the company subject to this review.

DATES: Applicable October 3, 2025.

FOR FURTHER INFORMATION CONTACT: Kristen Johnson, AD/CVD Operations, Office III, Enforcement and Compliance, International Trade Administration, U.S. Department of Commerce, 1401 Constitution Avenue NW, Washington, DC 20230; telephone: (202) 482-4793.

SUPPLEMENTARY INFORMATION:

Background

On May 5, 2025, Commerce published in the Federal Register a notice of opportunity to request an administrative review of the CVD order on non-refillable cylinders from China, covering the period January 1, 2024, though December 31, 2024.¹ On May 22, 2025, Sanjiang Kai Yuan Co., Ltd. (SKY) timely requested that Commerce conduct an administrative review.² We received no other requests for review.

¹ See Antidumping or Countervailing Duty Order, Finding, or Suspended Investigation; Opportunity To Request Administrative Review and Join Annual Inquiry Service List, 90 FR 18962, 18964 (May 5, 2025).

² See SKY's Letter, “Request for Administrative Review,” dated May 22, 2025.

On June 25, 2025, Commerce published in the Federal Register a notice of initiation of an administrative review with respect to SKY, in accordance with section 751(a) of the Tariff Act of 1930, as amended (the Act).³ On July 9, 2025, Commerce released a memorandum indicating that there were no entries of subject merchandise during the POR based on a U.S. Customs and Border Protection (CBP) entry data query and notified all interested parties of its intent to rescind the review.⁴ Commerce provided parties an opportunity to submit comments on the data query results and intent to rescind.⁵ No party submitted comments to Commerce.

³ See Initiation of Antidumping and Countervailing Duty Administrative Reviews, 90 FR 26967, 26979 (June 25, 2025).

⁴ See Memorandum, “Release of CBP Data Query Results and Notice of Intent to Rescind Review,” dated July 9, 2025.

⁵ Id.

Rescission of Review

Pursuant to 19 CFR 351.213(d)(3), it is Commerce's practice to rescind an administrative review of a CVD order when there are no entries of subject merchandise during the POR for which liquidation is suspended.⁶ Normally, upon completion of an administrative review, the suspended entries are liquidated at the CVD assessment rate for the review period.⁷ Therefore, for an administrative review to be conducted, there must be a reviewable, suspended entry that Commerce can instruct CBP to liquidate at the calculated CVD assessment rate for the review period.⁸ As noted above, there were no entries of subject merchandise from SKY during the POR. Accordingly, in the absence of reviewable, suspended entries of subject merchandise during the POR, we are rescinding this administrative review, in its entirety, in accordance with 19 CFR 351.213(d)(3).

⁶ See, e.g., Melamine from the People's Republic of China: Rescission of Countervailing Duty Administrative Review; 2023, 90 FR 34641 (July 23, 2025).

⁷ See 19 CFR 351.212(b)(2).

⁸ See 19 CFR 351.213(d)(3).

Cash Deposit Requirements

As Commerce has proceeded to a final rescission of this administrative review, no cash deposit rates will change. Accordingly, the current cash deposit requirements shall remain in effect until further notice.

Assessment Rates

Commerce will instruct CBP to assess countervailing duties on all appropriate entries. Countervailing duties shall be assessed at rates equal to the cash deposit of estimated countervailing duties required at the time of entry, or withdrawal from warehouse, for consumption, in accordance with 19 CFR 351.212(c)(1)(i). Commerce intends to issue assessment instructions to CBP no earlier than 35 days after the date of publication of this rescission notice in the Federal Register.

Administrative Protective Order (APO)

This notice serves as a final reminder to parties subject to an APO of their responsibility concerning the return or destruction of proprietary information disclosed under APO in accordance with 19 CFR 351.305(a)(3), which continues to govern business proprietary information in this segment of the proceeding. Timely written notification of the return or destruction of the APO materials, or conversion to judicial protective order is hereby requested. Failure to comply with regulations and terms of an APO is a violation, which is subject to sanction.

Notification to Interested Parties

This notice is issued and published in accordance with sections 751(a)(1) and 777(i)(l) of the Act, and 19 CFR 351.213(d)(4).

Dated: September 30, 2025.
Scot Fullerton,
Acting Deputy Assistant Secretary for Antidumping and Countervailing Duty Operations.

[FR Doc. 2025-19418 Filed 10-2-25; 8:45 am]

BILLING CODE 3510-DS-P